DEPARTMENT OF TRANSPORTATION

Federal Aviation Administration

14 CFR Part 71

[Docket No. FAA-2024-1984; Airspace Docket No. 24-ASO-25]

RIN 2120-AA66

Amendment of Class D and Class E Airspace; Goldsboro, NC

AGENCY: Federal Aviation Administration (FAA), DOT.

ACTION: Final rule.

SUMMARY: This action amends Class E airspace extending upward from 700 feet above the surface for Goldsboro, NC, to accommodate a new instrument approach procedure that has been designed for Wayne Memorial Hospital Inc. Heliport, Goldsboro, NC. Additionally, this action brings the Goldsboro Class D and Class E airspace into compliance with FAA orders through administrative changes. Controlled airspace is necessary for the safety and management of instrument flight rules (IFR) operations at this airport.

DATES: Effective 0901 UTC, August 7, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. FAA Order JO 7400.11J, Airspace Designations, and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Rachel Cruz, Operations Support Group, Eastern Service Center, Federal Aviation Administration, 1701 Columbia Avenue, College Park, GA 30337; Telephone: (404) 305-5571.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends Class D and Class E airspace in Goldsboro, NC.

History

The FAA published a notice of proposed rulemaking for Docket No. FAA-2024-1984 in the Federal Register (89 FR 94629; November 29, 2024), proposing to amend Class E airspace extending upward from 700 feet above the surface for Wayne Memorial Hospital Inc. Heliport, Goldsboro, NC. Interested parties were invited to participate in this rulemaking effort by submitting written comments on the proposal to the FAA. No comments were received.

Incorporation by Reference

Class E airspace designations are published in paragraphs 5000 and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This amendment to 14 CFR part 71 modifies Class E airspace extending upward from 700 feet above the surface for Goldsboro, NC, by increasing the airspace within a 6-mile radius of Wayne Memorial Hospital Inc. Heliport, Goldsboro, NC. Additionally, this removes the city associated with the airports in the airspace legal description header and updates Wayne Executive Jetport, NC, and Mount Olive Municipal Airport, NC, to comply with changes to FAA Order JO 7400.2R, Procedures for Handling Airspace Matters. Also, this action would replace the terms Airport/Facility Directory with Chart Supplement in the Class D description. Controlled airspace is necessary for the safety and management of IFR operations in the area.

Differences From the NPRM

The FAA published a notice of proposed rulemaking for Docket No. 2024-1984 in the Federal Register (89 FR 94629; November 29, 2024), proposing to amend Class E airspace extending upward from 700 feet above the surface for Wayne Memorial Hospital Inc. Heliport, Goldsboro, NC. This amendment to 14 CFR part 71 amends the NPRM to include an administrative update to the legal description of Seymour Johnson AFB. After the NPRM was issued, Executive Order 14172, Restoring Names that Honor American Greatness, was issued, which mandates a return to the term “Notice to Airmen”. As such, this action no longer proposes the replacement of the terms Notice to Airmen with Notice to Air Missions. This amendment also updates the coordinates of Wayne Memorial Hospital Inc. Heliport, Goldsboro, NC, to lat. 35°23′58″ N, long. 77°57′15″ W, as updated coordinates have become available since the publishing of the NPRM. Because these are administrative changes that impose no additional requirements on users of the airspace, the FAA has determined that good cause exists to proceed with this action without recirculating the NPRM for public comment.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of Federal Aviation Administration Order JO 7400.11J, Airspace Designations and Reporting Points, dated July 31, 2024, and effective September 15, 2024, is amended as follows:

Paragraph 5000 Class D Airspace.

* * * * *

ASO NC D Goldsboro, NC [Amended]

Seymour Johnson AFB, NC

(Lat. 35°20′22″ N, long. 77°57′38″ W)

That airspace extending upward from the surface to and including 2,600 feet MSL within a 5.7-mile radius of Seymour Johnson AFB. This Class D airspace area is effective during the specific dates and times established in advance by a Notice to Airmen. The effective dates and times will thereafter be continuously published in the Chart Supplement.

* * * * *

Paragraph 6005 Class E Surface Airspace Areas Extending Upward From 700 Feet or More Above the Surface of the Earth.

* * * * *

ASO NC E5 Goldsboro, NC [Amended]

Seymour Johnson, AFB, NC

(Lat. 35°20′22″ N, long. 77°57′38″ W)

Seymour Johnson TACAN

(Lat. 35°20′07″ N, long. 77°58′17″ W)

Wayne Executive Jetport, NC

(Lat. 35°27′38″ N, long. 77°57′54″ W)

Mount Olive Municipal Airport, NC

(Lat. 35°13′17″ N, long. 78°02′19″ W)

Wayne Memorial Hospital Inc. Heliport, NC

(Lat. 35°23′58″ N, long. 77°57′15″ W)

That airspace extending upward from 700 feet above the surface within a 6.6-mile radius of Seymour Johnson, AFB, and within 2.5 miles each side of the Seymour Johnson TACAN 265° radial extending from the 6.6-mile radius to 12 miles west of the TACAN, and within a 5-mile radius of Wayne Executive Jetport, and within a 6.5-mile radius of Mount Olive Municipal Airport, and within a 6-mile radius of Wayne Memorial Hospital Inc. Heliport.

* * * * *

Issued in College Park, Georgia, on May 28, 2025.
Patrick Young,
Manager, Airspace & Procedures Team North, Eastern Service Center, Air Traffic Organization.

[FR Doc. 2025-09959 Filed 6-2-25; 8:45 am]

BILLING CODE 4910-13-P